DEPARTMENT OF COMMERCE

National Oceanic and Atmospheric Administration

RIN 0648-XI99

Endangered Species; File Nos. 13306 and 13307

AGENCY: National Marine Fisheries Service (NMFS), National Oceanic and Atmospheric Administration (NOAA), Commerce.

ACTION: Issuance of permits.

SUMMARY: Notice is hereby given that Karen Holloway-Adkins, East Coast Biologists, Inc., P.O. Box 33715, Indialantic, FL, 32903 (File No. 13306) and Kristen Hart, 3205 College Ave., Davie, FL, 33314 (File No. 13307) have been issued permits to take green (Chelonia mydas), loggerhead (Caretta caretta), and hawksbill (Eretmochelys imbricata) sea turtles for purposes of scientific research.

ADDRESSES: The permits and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Kate Swails or Patrick Opay, (301)713-2289.

SUPPLEMENTARY INFORMATION: On April 2, 2008, notice was published in the Federal Register (73 FR 17956) that a request for scientific research permits to take sea turtles had been submitted by the above-named individuals. The requested permit has been issued under the authority of the Endangered Species Act of 1973, as amended (ESA; 16 U.S.C. 1531 et seq.) and the regulations governing the taking, importing, and exporting of endangered and threatened species (50 CFR parts 222-226).

File No. 13306: Ms. Holloway-Adkins will capture up to 60 green and 5 loggerhead sea turtles annually. The turtles will be weighed, measured, flipper tagged, Passive Integrated Transponder (PIT) tagged, and blood and tissue sampled. A subset of green turtles will be lavaged. The applicant will also conduct visual transect surveys. This research will characterize the turtle aggregation using the nearshore reef system of Brevard county, Florida as well as monitor the impact of local beach nourishment activities on the sea turtles and their habitat.

File No. 13307: Dr. Hart will capture up to 30 green, 20 hawksbill, and 20 loggerhead sea turtles annually. Turtles will be weighed, measured, flipper tagged, PIT tagged, blood sampled, tissue sampled, fecal sampled, and lavaged. A subset of turtles will be tagged with a satellite tag or acoustic transmitter or a combination of both. This research will address fine-scale temporal and spatial patterns of sea turtle habitat use, ecology, and genetic origin within the Dry Tortugas National Park.

Issuance of these permits, as required by the ESA, was based on a finding that such permit (1) was applied for in good faith, (2) will not operate to the disadvantage of such endangered or threatened species, and (3) is consistent with the purposes and policies set forth in section 2 of the ESA.

Dated: July 7, 2008.
P. Michael Payne,
Chief,Permits, Conservation and Education Division, Office of Protected Resources, National Marine Fisheries Service.

[FR Doc. E8-15835 Filed 7-10-08; 8:45 am]

BILLING CODE 3510-22-S